DEPARTMENT OF HEALTH AND HUMAN SERVICES

National Institutes of Health

National Heart, Lung, and Blood Institute; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Heart, Lung, and Blood Institute Special Emphasis Panel Family Study of Nasopharyngeal Carcinoma and Oral Cancer.

Date: May 17, 2000.

Time: 2:30 p.m. to 3:30 p.m.

Agenda: To review and evaluate contract proposals.

Place: NIH, Rockledge II, Bethesda, MD 20892, (Telephone Conference Call).

Contact Person: C. James Scheirer, Chief, Review Branch, DEA, NIH, NHLBI, Rockledge Center II, 6701 Rockledge Drive, Suite 7216, Bethesda, MD 20892-7924, (301) 435-0206.

Name of Committee: National Heart, Lung, and Blood Institute Special Emphasis Panel, Biology of Hematopoietic Stem Cells RFA.

Date: June 7-8, 2000.

Time: 7 a.m. 3 p.m.

Agenda: To review and evaluate grant applications.

Place: Columbia Sheraton, 10207 Wincopin Circle, Columbia, MD 21044.

Contact Person: Terry Rogers Bishop, Scientific Review Administrator, Review Branch, NIH, NHLBI, DEA, Rockledge Center II, 6701 Rockledge Drive, Suite 7210, Bethesda, MD 20892-7924, (301) 435-0303.

(Catalog of Federal Domestic Assistance Program Nos. 93.233, National Center for Sleep Disorders Research; 93.837, Heart and Vascular Diseases Research; 93.838, Lung Diseases Research; 93.839, Blood Diseases and Resource Research, National Institutes of Health, HHS)

Dated: April 19, 2000.
LaVerne Y. Stringfield,
Director, Office of Federal Advisory Committee Policy.

[FR Doc. 00-10405 Filed 4-25-00; 8:45 am]

BILLING CODE 4140-01-M